DEPARTMENT OF HEALTH AND HUMAN SERVICES

Agency for Toxic Substances and Disease Registry

[ATSDR-218]

Availability of Final Toxicological Profiles

AGENCY: Agency for Toxic Substances and Disease Registry (ATSDR), Department of Health and Human Services (HHS).

ACTION: Notice of availability.

SUMMARY: This notice announces the availability of one new and seven updated final toxicological profiles of priority hazardous substances comprising the seventeenth set prepared by ATSDR.

FOR FURTHER INFORMATION CONTACT: Ms. Olga Dawkins, Division of Toxicology and Environmental Medicine, Agency for Toxic Substances and Disease Registry, Mailstop F-32, 1600 Clifton Road, NE., Atlanta, Georgia 30333, telephone (770) 488-3315. Electronic access to these documents is also available at the ATSDR website: http://www.atsdr.cdc.gov/toxpro2.html.

SUPPLEMENTARY INFORMATION: The Superfund Amendments and Reauthorization Act of 1986 (SARA) (42 U.S.C. 9601 et seq.) amended the Comprehensive Environmental Response, Compensation, and Liability Act of 1980 (CERCLA or Superfund) (42 U.S.C. 9601 et seq.) by establishing certain requirements for ATSDR and the U.S. Environmental Protection Agency (EPA) with regard to hazardous substances that are most commonly found at facilities on the CERCLA National Priorities List (NPL). Among these statutory requirements is a mandate for the Administrator of ATSDR to prepare toxicological profiles for each substance included on the priority lists of hazardous substances. These lists identified 275 hazardous substances that ATSDR and EPA determined pose the most significant potential threat to human health. The availability of the revised list of the 275 priority substances was announced in the Federal Register on December 7, 2005 (70 FR 234). For prior versions of the list of substances, see Federal Register notices dated April 17, 1987 (52 FR 12866); October 20, 1988 (53 FR 41280); October 26, 1989 (54 FR 43619); October 17, 1990 (55 FR 42067); October 17, 1991 (56 FR 52166); October 28, 1992 (57 FR 48801); February 28, 1994 (59 FR 9486); April 29, 1996 (61 FR 18744); November 17, 1997 (62 FR 61332); October 21, 1999 (64 FR 56792); October 25, 2001 (66 FR 54014) and November 7, 2003 (68 FR 63098).

Notice of the availability of drafts of these seven updated and one new toxicological profiles for public review and comment was published in the Federal Register on October 23, 2003, (68 FR 60696), with notice of a 90-day public comment period for each profile, starting from the actual release date. Following the close of the comment period, chemical-specific comments were addressed, and, where appropriate, changes were incorporated into each profile. The public comments and other data submitted in response to the Federal Register notices bear the docket control number ATSDR-197. This material is available for public inspection at the Division of Toxicology, Agency for Toxic Substances and Disease Registry, 1825 Century Boulevard, Atlanta, Georgia, (not a mailing address) between 8:00 a.m. and 4:30 p.m., Monday through Friday, except legal holidays.

Availability

This notice announces the availability of one new and seven updated final toxicological profiles of priority hazardous substances comprising the seventeenth set prepared by ATSDR. The following toxicological profiles are now available through the U.S. Department of Commerce, National Technical Information Service (NTIS), 5285 Port Royal Road, Springfield, Virginia 22161, telephone 1-800-553-6847. There is a charge for these profiles as determined by NTIS.

Seventeenth Set:

Toxicological profile | NTIS order No. | CAS No.
1. Bromoform/ | PB2006-100001 | 000075-25-2
Dibromochloromethane |  | 000124-48-1
2. Carbon Tetrachloride | PB2006-100002 | 000056-23-5
3. Hexachlorocyclohexane (gamma) | PB2006-100003 | 000058-89-9
Hexachlorocyclohexane (beta) |  | 000319-85-7
Hexachlorocyclohexane (delta) |  | 000319-86-8
Hexachlorocyclohexane (alpha) |  | 000319-84-6
Hexachlorocyclohexane (technical) |  | 000608-73-1
4. Naphthalene | PB2006-100004 | 000091-20-3
1-Methyl Naphthalene |  | 000090-12-0
2-Methyl Naphthalene |  | 000091-57-6
5. Nickel | PB2006-100005 | 007440-02-0
6. Tin | PB2006-100006 | 007440-31-5
7. Tungsten * | PB2006-100007 | 007440-33-7
8. Zinc | PB2006-100008 | 007440-66-6
Note.—* Denotes new profile.

Kevin A. Ryan,
Acting Director, Office of Policy, Planning and Evaluation, National Center for Environmental Health/Agency for Toxic Substances and Disease Registry.

[FR Doc. E6-2577 Filed 2-22-06; 8:45 am]

BILLING CODE 4163-70-P